DEPARTMENT OF HEALTH AND HUMAN SERVICES

Centers for Disease Control and Prevention

Board of Scientific Counselors, National Center for Injury Prevention and Control, (BSC, NCIPC); Correction

Notice is hereby given of a change in the meeting of the Board of Scientific Counselors, National Center for Injury Prevention and Control, (BSC, NCIPC); April 30, 2020, 12:30 p.m. to 3:50 p.m., EDT which was published in the Federal Register on February 24, 2020, Volume 85, Number 36, pages 10441-10442.

The SUMMARY should read as follows:

SUMMARY: In accordance with the Federal Advisory Committee Act, the CDC announces the following meeting for the Board of Scientific Counselors, National Center for Injury Prevention and Control, (BSC, NCIPC). This meeting is open to the public limited only by the ports available. There will be 2,000 telephone ports available. The public comment period will be at the end of the meeting from 3:00 p.m.-3:45 p.m., EDT.

The public is encouraged to register to participate by telephone and/or provide public comment using the registration form available at the link provided: https://www.surveymonkey.com/r/P6ZN7QX. Written comments may also be submitted for the meeting record in advance using the registration form.

Individuals registered to provide public comment will be called upon to speak based on the order of registration. After persons who have registered have spoken, any remaining time in the public comment period will be used for members of the public who have not registered, but wish to offer comment. Each individual making public comment during the meeting will have a 2-minute speaking limit to allow for as many comments as possible. Registered individuals may also request that their written comments be read during the meeting, but such comments will be subject to the same duration limit.

FOR FURTHER INFORMATION CONTACT: Gwendolyn H. Cattledge, Ph.D., M.S.E.H., Deputy Associate Director for Science, NCIPC, CDC, 4770 Buford Highway NE, Mailstop F-63, Atlanta, Georgia 30341; telephone (770) 488-3953; email address: NCIPCBSC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-06250 Filed 3-24-20; 8:45 am]

BILLING CODE 4163-18-P